FEDERAL COMMUNICATIONS COMMISSION

Public Information Collections Approved by Office of Management and Budget

October 14, 2003.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION:

OMB Control No.: 3060-0410.

OMB Approval Date: 08/25/2003.

Expiration Date: 08/31/2006.

Title: Forecast of Investment Usage Report and Actual Usage of Investment Report.

Form No.: FCC Reports 495A and FCC 495B.

Estimated Annual Burden: 166 responses; 6,640 total annual hours; 40 hours per respondent.

Needs and Uses: The Forecast of Investment Usage and Actural Usage of Investment Reports are needed to detect and correct forcast errors that could lead to significant misallocation of network plant between regulated and nonregulated activities. FCC's purpose is to protect the regulated ratepayer from subsidizing the nonregulated activities of rate regulated telephone companies. Sixty local exchange carriers file the annual reports based on study arears.

OMB Control No.: 3060-1044.

OMB Approval Date: 09/05/2003.

Expiration Date: 02/29/2004.

Title: Review of the Section 251 Unbundling Obligations of Incumbent Local Exchange Carriers CCDckt # 01-338, 96-98, 98-147, Report and Order and Order on Remand and Further NPRM.

Form No.: N/A.

Estimated Annual Burden: 2,369 responses; 74,120 total annual hours; approximately 32 hours per respondent.

Needs and Uses: In the Report and Order on Remand and Further Notice of Proposed Rulemaking, issued in CC Dockets 01-338, 96-98, 98-147, the Commission adopts new rules to govern the availability of unbundled network elements to competitive local exchange carriers from incumbent local exchange carriers. The Commission amends its standard for determining which network elements must be provided on an unbundled basis and determines which network elements meet this standard. The Commission establishes eligibility criteria for certain combinations of unbundled network elements. The Commission allows state regulatory commissions to initiate proceedings to make additional determinations consistent with specific Commission guidance.

OMB Control No.: 3060-0168.

OMB Approval Date: 09/16/2003.

Expiration Date: 09/30/2006.

Title: Reports of Proposed Changes in Depreciation Rates—Section 43.43.

Form No.: N/A.

Estimated Annual Burden: 10 responses; 60,000 total annual hours; 6,000 hours per respondent.

Needs and Uses: Section 43.43 of the Commission's Rules requires certain carriers to file specified information before making any change in the depreciation rates applicable to their operating plants.

OMB Control No.: 3060-0726.

OMB Approval Date: 09/26/2003.

Expiration Date: 09/30/2006.

Title: Quarterly Report of Interexchange Carriers Listing the Number of Dial-Around Calls for Which Compensation is Being Paid to Payphone Owners.

Form No.: N/A.

Estimated Annual Burden: 1,044 responses; 522 total annual hours; 0.5 hours per respondent.

Needs and Uses: Interechange carriers responsible for paying per-call compensation to payphone providers must submit a quarterly list of dial-around calls to those payphone providers. The payphone providers need the list to calculate the compensation to be paid by the interexchange carriers.

OMB Control No.: 3060-0233.

OMB Approval Date: 09/26/2003.

Expiration Date: 09/30/2006.

Title: Part 36—Separations.

Form No.: N/A.

Estimated Annual Burden: 5,433 responses; 57,459 total annual hours; Approximately 11 hours per respondent.

Needs and Uses: In order to allow determination of the study areas that are entitled to an expense adjustment, and the wire centers that are entitled to high-cost universal service support, each incumbent local exchange carrier must provide certain data to the National Exchange Carrier Association annually and/or quarterly. Local telephone companies who want to participate in the federal universal service support program must make certain informational showings to demonstrate eligibility.

OMB Control No.: 3060-0725.

OMB Approval Date: 09/26/2003.

Expiration Date: 09/30/2006.

Title: Quarterly Filing of Nondiscrimination Reports (on Quality of Service, Installation and Maintenance) by Bell Operating Companies.

Form No.: N/A.

Estimated Annual Burden: 16 responses; 800 total annual hours; 50 hours per respondent.

Needs and Uses: Bell Operating Companies (BOCs) must submit non-discrimination report with regard to payphones. This will prevent BOCs from discriminating in favor of their own payphones.

OMB Control No.: 3060-0817.

OMB Approval Date: 09/26/2003.

Expiration Date: 09/30/2006.

Title: Computer III Further Remand Proceedings: BOC Provision of Enhanced Services (ONA Requirements), CC Docket No. 95-20.

Form No.: N/A.

Estimated Annual Burden: 10 responses; 270 total annual hours; 27 hours per respondent.

Needs and Uses: BOCs are required to post their CEI plans and amendments on their publicly accessible Internet sites. The requirement extends CEI plans for new or modified telemessaging or alarm monitoring services and for new or amended payphone services. If the BOC receives a good faith request for a plan from someone who does not have internet access, the BOC must notify that person where a paper copy of the plan is available for public inspection. The CEI plans will be used to ensure that BOCs comply with Commission policies and regulations safeguarding against potential anticompetive behavior by the BOCs in the provision of information sevices.

Federal Communications Commission.
Marlene H. Dortch,
Secretary.

[FR Doc. 03-26847 Filed 10-23-03; 8:45 am]

BILLING CODE 6712-01-P